DEPARTMENT OF THE INTERIOR

Bureau of Indian Affairs

[145A2100DD AAK4000000 A0R9B0000.999900]

Renewal of Agency Information Collection for Tribal Probate Codes

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information titled “Tribal Probate Codes,” authorized by OMB Control Number 1076-0168. This information collection expires February 28, 2015.

DATES: Submit comments on or before December 29, 2014.

ADDRESSES: You may submit comments on the information collection to Charlene Toledo, Bureau of Indian Affairs, Office of Trust Services, Division of Probate Services 2600 N Central Ave STE MS 102, Phoenix, AZ 85004: Charlene.Toledo@bia.gov.

FOR FURTHER INFORMATION CONTACT: Charlene Toledo, (505) 563.3371.

SUPPLEMENTARY INFORMATION:

I. Abstract

As sovereignties, federally recognized tribes have the right to establish their own probate codes. When those probate codes govern the descent and distribution of trust or restricted property, they must be approved by the Secretary of the Department of the Interior. The American Indian Probate Reform Act of 2004 (AIPRA) amendments to the Indian Land Consolidation Act, 25 U.S.C. 2201 et seq., provides that any tribal probate code, any amendment to a tribal probate code, and any free-standing single heir rule are subject to the approval of the Secretary if they contain provisions governing trust lands. This statute also establishes the basic review and approval of tribal probate codes. This information collection covers tribes' submission of tribal probate codes, amendments, and free-standing single heir rules containing provisions regarding trust lands to the Secretary for approval.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0168.

Title: Tribal Probate Codes, 25 CFR 18.

Brief Description of Collection: Submission of information is required to comply with ILCA, as amended by AIPRA, 25 U.S.C. 2201 et seq., which provides that Indian tribes must obtain Secretarial approval for all tribal probate codes, amendments, and free-standing single heir rules that govern the descent and distribution of trust or restricted lands.

Type of Review: Extension without change of currently approved collection.

Respondents: Indian tribes.

Number of Respondents: 10 per year, on average.

Frequency of Response: One per respondent, on occasion.

Estimated Time per Response: 30 minutes.

Estimated Total Annual Hour Burden: 5 hours.

Estimated Total Annual Non-Hour Dollar Cost: $0.

Dated: October 20, 2014.
Phillip L. Brinkley,
Senior Advisor for Information Resources—Indian Affairs, (Interim).

[FR Doc. 2014-25572 Filed 10-27-14; 8:45 am]

BILLING CODE 4310-W7-P